DEPARTMENT OF TRANSPORTATION

Maritime Administration

[USCG-2006-24644]

TORP Terminal LP, Bienville Offshore Energy Terminal Liquefied Natural Gas Deepwater Port License Application; Final Application Public Hearing and Final Environmental Impact Statement

AGENCY: Maritime Administration, DOT.

ACTION: Notice of availability; notice of public hearing; request for comments.

SUMMARY: The Maritime Administration and the U.S. Coast Guard (USCG) announce the availability of the Final Environmental Impact Statement (FEIS) for the TORP Terminal LP, Bienville Offshore Energy Terminal Liquefied Natural Gas Deepwater Port license application. The application describes a project that would be located in the Gulf of Mexico, in Main Pass block MP 258, approximately 63 miles south of Mobile Point, Alabama. The Coast Guard and Maritime Administration request public comments on the FEIS and application. Publication of this notice begins a 45 day comment period and provides information on how to participate in the process.

DATES: A public hearing will be held in Mobile, Alabama on August 26, 2008. The public hearing will be held from 5 p.m. to 7 p.m. and will be preceded by an open house from 3 p.m. to 4:30 p.m. The public hearing may end later than the stated time, depending on the number of persons wishing to speak.

Material submitted in response to the request for comments on the FEIS and application must reach the Docket Management Facility by September 22, 2008 ending the 45 day comment period.

Federal and State agencies must also submit comments, recommended conditions for licensing, or letters of no objection by October 10, 2008 (45 days after the final public hearing). Also by October 10, 2008, the Governor of Alabama (the adjacent coastal state) may approve, disapprove, or notify the Maritime Administration of inconsistencies with State programs relating to environmental protection, land and water use, and coastal zone management for which the Maritime Administration may condition the license to make consistent.

The Maritime Administration must issue a record of decision (ROD) to approve, approve with conditions, or deny the DWP license application by November 24, 2008 (90 days after the public hearing).

ADDRESSES: The public hearing in Mobile will be held at the Mobile Convention Center, One South Water Street, Room 203, Mobile, Alabama 36602; telephone: 251-208-2100.

The FEIS, the application, comments and associated documentation are available for viewing at the Federal Docket Management System Web site: http://www.regulations.gov under docket number USCG-2006-24644. The FEIS is also available at public libraries in Mobile (Ben May Main Library and Spring Hill College Library), Bayou La Batre (Mose Hudson Tapia Public Library), Orange Beach (Orange Beach Public Library), Daphne (Daphne Public Library), and Gulf Shores (Thomas B. Norton Public Library).

Docket submissions for USCG-2006-24644 should be addressed to:

Department of Transportation, Docket Management Facility, 1200 New Jersey Avenue, SE., West Building, Ground Floor, Room W12-140, Washington, DC 20590-0001.

The Federal Docket Management Facility accepts hand-delivered submissions, and makes docket contents available for public inspection and copying at this address between 9 a.m. and 5 p.m., Monday through Friday, except Federal holidays. The Facility telephone number is 202-366-9329, the fax number is 202-493-2251, and the web site for electronic submissions or for electronic access to docket contents is http://www.regulations.gov.

FOR FURTHER INFORMATION CONTACT: LT Hannah Kim, U.S. Coast Guard, telephone: 202-372-1438, e-mail: Hannah.Kim@uscg.mil. If you have questions on viewing the docket, call Renee V. Wright, Program Manager, Docket Operations, telephone: 202-493-0402.

SUPPLEMENTARY INFORMATION:

Request for Comments

We request public comments or other information on the FEIS and application. The public hearing is not the only opportunity you have to comment. In addition to or in place of attending a hearing, you can submit comments to the Docket Management Facility during the public comment period (see DATES ). The Coast Guard and the Maritime Administration will consider all comments and material received during the comment period.

Submissions should include:

• Docket number USCG-2006-24644.

• Your name and address.

Submit comments or material using only one of the following methods:

• Electronic submission to FDMS, http://www.regulations.gov .

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the FDMS Web site (http://www.regulations.gov), and will include any personal information you provide. Therefore, submitting this information makes it public. You may wish to read the Privacy Act notice that is available on the FDMS Web site, or the Department of Transportation Privacy Act Statement that appeared in the Federal Register on April 11, 2000 (65 FR 19477).

You may view docket submissions at the Federal Docket Management Facility (see ADDRESSES), electronically on the FDMS Web site, or later in this notice (see PRIVACY ACT).

Background

Information about deepwater ports, the statutes, and regulations governing their licensing, and the receipt of the current application for a liquefied natural gas (LNG) deepwater port appears in Volume 71 FR 26605, Friday, May 5, 2006. The Notice of Intent to Prepare an EIS for the proposed action was published in the Federal Register in Volume 71 FR 31258, Thursday, June 1, 2006 and the Notice of Availability of the Draft EIS was published in Volume 72 FR 37074, Friday, July 6, 2007. The FEIS, application materials and associated comments are available on the docket. Information from the “Summary of the Application” from previous Federal Register notices is included below for your convenience.

Proposed Action and Alternatives

The proposed action requiring environmental review is the Federal licensing of the proposed deepwater port described in “Summary of the Application” below. The alternatives to licensing the proposed port are: (1) Licensing with conditions (including conditions designed to mitigate environmental impact), and (2) denying the application, which for purposes of environmental review is the “no-action” alternative. These alternatives are more fully discussed in the FEIS. The Coast Guard and the Maritime Administration are the lead Federal agencies for the preparation of the EIS. You can address any questions about the proposed action or the FEIS to the Coast Guard project manager identified in FOR FURTHER INFORMATION CONTACT.

Summary of the Application

TORP Terminal LP, proposes to own, construct, and operate a deepwater port, named Bienville Offshore Energy Terminal (BOET), in the Federal waters of the Outer Continental Shelf on Main Pass block MP 258, approximately 63 miles south of Mobile Point, Alabama, in a water depth of approximately 425 feet. The BOET Deepwater Port would be capable of mooring two LNG carriers of up to approximately 250,000 cubic meter capacity by means of Single Anchor Leg Moorings (SALMs).

The LNG carriers would be off loaded one at a time to HiLoad floating re-gasification facilities, which use four submerged shell-and-tube heat exchangers to vaporize the LNG before sending natural gas via 14-inch diameter flexible risers to a Pipeline End Manifold (PLEM) on the seafloor, then through a 30-inch diameter pipeline to the support platform, where the gas will be metered and further sent via interconnecting pipelines to four existing pipelines (Dauphin Island Gathering System Feedline, Transco Feedline, Destin Feedline, and Viosca Knoll Gathering System Feedline).

The major components of the proposed deepwater port would be the Support Platform, two HiLoad floating LNG transfer and re-gasification units, two PLEMs with ancillary risers and terminal pipelines, HiLoad parking line pilings, and approximately 25 miles of new subsea pipeline.

BOET will have an average throughput capacity of 1.2 billion standard cubic feet per day (Bscfd) of natural gas. No new onshore pipelines or LNG storage facilities are proposed with this action. A shore based facility will be used to facilitate movement of personnel, equipment, supplies, and disposable materials between the terminal and shore.

Construction of the deepwater port would be expected to take 30 months; with startup of commercial operations in 2011, should a license be issued. The deepwater port, if licensed, would be designed, constructed and operated in accordance with applicable codes and standards and would have an expected operating life of approximately 25 years.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

(Authority 49 CFR 1.66)

By Order of the Maritime Administrator.
Dated: August 1, 2008.
Leonard Sutter,
Secretary, Maritime Administration.

[FR Doc. E8-18100 Filed 8-7-08; 8:45 am]

BILLING CODE 4910-81-P